DEPARTMENT OF DEFENSE

Office of the Secretary

[Docket ID DoD-2020-OS-0079]

Privacy Act of 1974; System of Records

AGENCY: Office of the Secretary of Defense (OSD), Department of Defense (DoD).

ACTION: Notice of a modified system of records.

SUMMARY: The OSD is modifying a system of records entitled, “Defense Sexual Assault Advocate Certification Program (D-SAACP),” DHRA 10 DoD. The system records track Sexual Assault Response Coordinators (SARC) and Sexual Assault Prevention and Response Victim Advocates (SAPR VAs) certifications. System information is used to review, process, and report on the status of SARC and SAPR VA certifications to Congress.

DATES: This system of records modification is effective upon publication; however, comments on the Routine Uses will be accepted on or before October 23, 2020. The Routine Uses are effective at the close of the comment period.

ADDRESSES: You may submit comments, identified by docket number and title, by any of the following methods:

* Federal Rulemaking Portal: https://www.regulations.gov. Follow the instructions for submitting comments.

* Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Lyn Kirby, Defense Privacy, Civil Liberties, and Transparency Division, Directorate for Oversight and Compliance, Department of Defense, 4800 Mark Center Drive, Mailbox #24, Suite 08D09, Alexandria, VA 22350-1700; OSD.DPCLTD@mail.mil; (703) 571-0070.

SUPPLEMENTARY INFORMATION: The purpose of these modifications is for formatting changes and to comply with updates to the DoD Instruction 6495.03. The OSD is modifying a system of records subject to the Privacy Act of 1974, 5 U.S.C. 552a. D-SAACP applicants must complete and submit the DD Form 2950, “Department of Defense Sexual Assault Advocate Certification Program Application Packet,” and a certificate of completion of 40 hours of D-SAACP-approved training, or the DD Form 2950-1, “D-SAACP Renewal Application Packet,” for all renewals. D-SAACP requires applicants to provide proof of 32 hours of continuing education training for certification renewal every two years.

SARCs and SAPR VAs must be appointed by commanders or other appropriate appointing authorities and D-SAACP certified. Also, SARCs and SAPR VAs must undergo or have undergone the required Assignment Eligibility Screening with favorable results (pre-screening requirements, or Tier 3 background investigation with State Criminal History Repository check, when necessary to augment Tier 3, or enrollment in Continuous Evaluation).

The DoD notices for systems of records subject to the Privacy Act of 1974, as amended, have been published in the Federal Register and are available from the address in FOR FURTHER INFORMATION CONTACT or at the Defense Privacy, Civil Liberties, and Transparency Division website at https://dpcld.defense.gov.

In accordance with 5 U.S.C. 552a(r) and Office of Management and Budget (OMB) Circular No. A-108, the DoD has provided a report of this system of records to the OMB and to Congress.

Dated: September 16, 2020.
Aaron T. Siegel,
Alternate OSD Federal Register Liaison Officer, Department of Defense.

SYSTEM NAME AND NUMBER:

Defense Sexual Assault Advocate Certification Program (D-SAACP), DHRA 10 DoD.

SECURITY CLASSIFICATION:

Unclassified.

SYSTEM LOCATION:

National Organization for Victim Assistance, 510 King Street, Suite 424, Alexandria, VA 22314-3132.

SYSTEM MANAGER(S):

Program Manager, Senior Victim Assistance Advisor, Sexual Assault Prevention and Response Office (SAPRO), 4800 Mark Center Drive, Alexandria, VA 22350-1500, email: whs.mc-alex.wso.mbx.SAPRO@mail.mil or telephone: (571) 372-2657.

AUTHORITY FOR MAINTENANCE OF THE SYSTEM:

10 U.S.C. 136, Under Secretary of Defense for Personnel and Readiness; and DoD Instruction 6495.03, Defense Sexual Assault Advocate Certification Program (D-SAACP).

PURPOSE(S) OF THE SYSTEM:

To track Sexual Assault Response Coordinator (SARC) and Sexual Assault Prevention and Response Victim Advocate (SAPR VAs) certifications. System information will be used to review, process, and report on the status of SARC and SAPR VA certifications to Congress.

CATEGORIES OF INDIVIDUALS COVERED BY THE SYSTEM:

DoD civilian employees and military personnel requesting national certification as an SARC or SAPR VA through the. D-SAACP and certified SARCs and SAPR VAs.

CATEGORIES OF RECORDS IN THE SYSTEM:

Applicant's first name, middle initial, and last name; position type (DoD personnel); Service/DoD affiliation and status; grade/rank; installation/command; work email address and telephone number; official military address of applicant and applicant's SARC (commanding officer, street, city, state, ZIP code, country); position level (Level I, II, III, or IV); certificates of training; date of application; verification of sexual assault victim advocacy experience (position, dates, hours, supervisor; name, title, and work telephone number of verifier); evaluation of sexual assault victim advocacy experience (description of applicant skills, abilities, and experience; name, title, and office of evaluator), letters of recommendation by the first person in the chain of command, SARC, and the Senior Commander or the Commander; verification of assignment eligibility screening by the Commander or appointing authority; supervisor and commander statement of understanding, documentation of continuing education training courses; D-SAACP identification (ID) number.

RECORD SOURCE CATEGORIES:

The individual, first person in chain of command or SARC and the Senior Commander or Commander, and the National Advocate Credentialing Program.

ROUTINE USES OF RECORDS MAINTAINED IN THE SYSTEM, INCLUDING CATEGORIES OF USERS AND PURPOSES OF SUCH USES:

In addition to those disclosures generally permitted in accordance with 5 U.S.C. 552a(b), the records contained herein may specifically be disclosed outside the DoD as a routine use pursuant to 5 U.S.C. 552a(b)(3) as follows:

a. To contractors responsible for performing or working on contracts for the DoD when necessary to accomplish an agency function related to this system of records. Individuals provided information under this routine use are subject to the same Privacy Act requirements and limitations on disclosure that apply to DoD officers and employees.

b. To the Department of Justice, Justice Programs, Office for Victims of Crime for the purpose of verifying certified SARCs and SAPR VAs for participation in Advance Military Sexual Assault Advocate Online Training.

c. To the appropriate Federal, State, local, territorial, tribal, foreign, or international law enforcement authority or other appropriate entity where a record, either alone or in conjunction with other information, indicates a violation or potential violation of law, whether criminal, civil, or regulatory in nature.

d. To any component of the Department of Justice for the purpose of representing the DoD, or its components, officers, employees, or members in pending or potential litigation to which the record is pertinent.

e. In an appropriate proceeding before a court, grand jury, or administrative or adjudicative body or official, when the DoD or other Agency representing the DoD determines the records are relevant and necessary to the proceeding; or in an appropriate proceeding before an administrative or adjudicative body when the adjudicator determines the records to be relevant to the proceeding.

f. To the National Archives and Records Administration for the purpose of records management inspections conducted under the authority of 44 U.S.C. 2904 and 2906.

g. To a Member of Congress or staff acting upon the Member's behalf when the Member or staff requests the information on behalf of, and at the request of, the individual who is the subject of the record.

h. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

i. To another Federal agency or Federal entity, when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Paper file folders and electronic storage media.

POLICIES AND PRACTICES FOR RETRIEVAL OF RECORDS:

First and last name, and/or D-SAACP ID number.

POLICIES AND PRACTICES FOR RETENTION AND DISPOSAL OF RECORDS:

Temporary. Cut off annually. Destroy 3 years after cutoff or 1 year upon employee separation or when superseded or obsolete, whichever comes first.

ADMINISTRATIVE, TECHNICAL, AND PHYSICAL SAFEGUARDS:

Records are maintained in a controlled facility that employs physical restrictions such as double locks and is accessible only to authorized persons with key fobs. Access to electronic data files in the system is role-based, restricted to essential personnel only, and requires two factor authentication. The data server is locked in a windowless room with restricted access. Data is encrypted, and backup data is also encrypted and removed to an off-site secure location for storage. Paper files are stored in a locked filing cabinet in a locked room in the controlled facility. System access to case files will be limited to computers within a closed network and not connected to the internet or other servers.

RECORD ACCESS PROCEDURES:

Individuals seeking access to records about themselves contained in this system of records should address written requests to the OSD/Joint Staff Freedom of Information Act Requester Service Center, Office of Freedom of Information, 1155 Defense Pentagon, Washington, DC 20301-1155. Signed, written requests should include the individual's full name, and the name and number of this system of records notice. In addition, the requester must provide either a notarized statement or an unsworn declaration made in accordance with 28 U.S.C. 1746, in the following format:

If executed outside the United States: “I declare (or certify, verify, or state) under penalty of perjury under the laws of the United States of America that the foregoing is true and correct.

Executed on (date). (Signature).”

If executed within the United States, its territories, possessions, or commonwealths: “I declare (or certify, verify, or state) under penalty of perjury that the foregoing is true and correct.

Executed on (date). (Signature).”

CONTESTING RECORD PROCEDURES:

The DoD rules for accessing records, for contesting contents, and for appealing initial agency determinations are contained in 32 CFR part 310; or may be obtained from the system manager.

NOTIFICATION PROCEDURES:

Individuals seeking to determine whether information about themselves is contained in this system of records should address written inquiries to the Sexual Assault Prevention and Response Office, ATTN: D-SAACP Manager, 4800 Mark Center Drive, Alexandria, VA 22350-1500. Signed, written requests should contain first and last name, and/or D-SAACP ID number. In addition, the requester must provide either a notarized statement or an unsworn declaration made in accordance with 28 U.S.C. 1746, in the following format:

If executed outside the United States: “I declare (or certify, verify, or state) under penalty of perjury under the laws of the United States of America that the foregoing is true and correct.

Executed on (date). (Signature).”

If executed within the United States, its territories, possessions, or commonwealths: “I declare (or certify, verify, or state) under penalty of perjury that the foregoing is true and correct.

Executed on (date). (Signature).”

EXEMPTIONS PROMULGATED FOR THE SYSTEM:

None.

HISTORY:

November 16, 2015, 80 FR 70765.

[FR Doc. 2020-21010 Filed 9-22-20; 8:45 am]

BILLING CODE 5001-06-P